DEPARTMENT OF ENERGY

Federal Energy Regulatory Commission

[Docket No. EL03-22-000]

California Independent System Operator Corporation, California Electricity Oversight Board, Public Utilities Commission of the State of California, and San Diego Gas & Electric Company, Complainants, v. Cabrillo Power I LLC, Respondent; Notice of Complaint

October 31, 2002.

Take notice that on October 30, 2002, the California Independent System Operator Corporation (the ISO), the California Electricity Oversight Board, the Public Utilities Commission of the State of California and San Diego Gas & Electric Company submitted a complaint pursuant to section 206 of the Federal Power Act, 16 U.S.C. 824e, against Cabrillo Power I LLC alleging that certain rates, referred to as the Fixed Option Payments, in the respective reliability must run (RMR) contracts between the ISO and respondent are unjust and unreasonable.

Complainants state that the allegations, facts, and relief requested in this proceeding are identical to those in Docket No. EL02-15-000, except that the complaint filed in that Docket did not include Encina unit number 4, which the ISO had not designated as an RMR unit for 2002. The ISO has indicated that unit number 4 will be designated as an RMR unit for the year 2003. Complainants ask that the Commission set a refund date of January 1, 2003, consolidate this proceeding with Docket No. EL02-15-000, and defer further action pending its decision on exceptions in Docket No. ER98-495-000.

Copies of the complaint were served on respondent and on other interested parties.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before November 19, 2002. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866)208-3676, or for TTY, contact (202)502-8659. The answer to the complaint, comments, protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-28305 Filed 11-5-02; 8:45 am]

BILLING CODE 6717-01-P